DEPARTMENT OF TRANSPORTATION

Federal Aviation Administration

14 CFR Part 71

[Docket No. FAA-2010-1022; Airspace Docket No. 10-AWP-4]

RIN 2120-AA66

Amendment of Jet Route J-93; CA

AGENCY: Federal Aviation Administration (FAA), DOT.

ACTION: Final rule.

SUMMARY: This action amends Jet Route J-93 in California between the Julian VHF Omnidrectional Radio Range Tactical Air Navigation Aid (VORTAC), and the ASUTA intersection on the United States/Mexican border. The FAA is realigning the jet route due to the relocation of the Penasco VOR, located in Mexico. This action ensures the efficient use of our National Airspace System.

DATES: Effective date 0901 UTC, May 5, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

History

On October 28, 2010, the FAA published in the Federal Register a notice of proposed rulemaking (NPRM) to amend J-93, (75 FR 66344). Interested parties were invited to participate in this rulemaking effort by submitting written comments on the proposal. No comments were received in response to the NPRM. Jet routes are published in paragraph 2004 of FAA Order 7400.9U, dated August 18, 2010, and effective September 15, 2010, which is incorporated by reference in 14 CFR 71.1. The jet routes listed in this document will be published subsequently in the Order.

The Rule

This action amends Title 14 Code of Federal Regulations (14 CFR) part 71 by modifying Jet Route J-93 in California, between the Julian VORTAC and the ASUTA intersection along the United States/Mexican Border, realigning the route with the revised location of the Penasco VOR located in Mexico.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends Jet Route J-93 in California.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR part 71.1 of FAA Order 7400.9U, Airspace Designations and Reporting Points, dated August 18, 2010 and effective September 15, 2010 amended as follows:

Paragraph 2004 Jet routes.

* * * * *

J-93 [Amended]

From the INT of the United States/Mexican Border and the Julian, CA, 122° radial via Julian; Paradise, CA; INT Paradise 290° and Los Angeles, CA, 083° radials; to Los Angeles.

Issued in Washington, DC on January 7, 2011.
Edith V. Parish,
Manager, Airspace Regulation and ATC Procedures Group.

[FR Doc. 2011-826 Filed 1-14-11; 8:45 am]

BILLING CODE 4910-13-P